DEPARTMENT OF ENERGY

Federal Energy Regulatory Commission

[Project No. 1922-052]

Ketchikan Public Utilities; Notice of Section 106 Meeting

a. Project Name and Number: Beaver Falls Hydroelectric Project No. 1922-052.

b. Applicant: Ketchikan Public Utilities (KPU).

c. Date and Time of Meeting: Friday, March 28, 2025 at 11:00 a.m. Alaska Standard Time.

d. Meeting Location: The meeting will be held virtually through Teams. Please contact FERC staff member, Lauren Townson, to receive a meeting link. The meeting link will include a dial-in-by-phone option for those with audio capabilities only.

e. FERC Contact: Lauren Townson, (202) 502-8572, Lauren.Townson@ferc.gov.

f. Purpose of Meeting: Commission staff will hold a meeting with representatives from the Alaska State Preservation Office to discuss the SHPO's comments regarding the draft programmatic agreement.

g. Intervenors in the referenced proceeding may attend the meeting; however, participation will be limited to representatives of the SHPO, the Tribes potentially interested in the project (the Ketchikan Indian Community, the Organized Village of Saxman, the Central Council of Tlingit and Haida Indians, and the Metlakatla Indian Community), and Commission staff. A summary of the meeting will be placed in the public record of this proceeding. Intervenors planning to attend the meeting should notify Lauren Townson at (202) 502-8572 or Lauren.Townson@ferc.gov by Wednesday, March 26, 2025.

Dated: February 26, 2025.
Debbie-Anne A. Reese,
Secretary.

[FR Doc. 2025-03497 Filed 3-4-25; 8:45 am]

BILLING CODE 6717-01-P